NATIONAL SCIENCE FOUNDATION

Advisory Committee for Mathematical and Physical Sciences; Notice of Meeting

In accordance with the Federal Advisory Committee Act (Pub. L. 92-463, as amended), the National Science Foundation announces the following meeting:

Name: Advisory Committee for Mathematical and Physical Sciences (#66).

Date/Time: April 3, 2015: 10:00 a.m.-1:00 p.m.

Place: National Science Foundation, Room 1235, Stafford I Building, 4201 Wilson Blvd., Arlington, VA 22230.

To help facilitate your entry into the building, contact Sara Dwyer (sdwyer@nsf.gov). Your request should be received on or prior to March 27, 2015.

Virtual attendance will be supported. For detailed instructions, visit the meeting Web site at http://www.nsf.gov/events/event_summ.jsp?cntn_id=134132&org=MPS.

Type of Meeting: Open, Virtual.

Contact Person: Eduardo Misawa, National Science Foundation, 4201 Wilson Boulevard, Suite 1005, Arlington, Virginia 22230, 703-292-5353 and Tiffany Sweat, National Science Foundation, 4201 Wilson Boulevard, Suite 1005, Arlington, Virginia 22230, 703-292-4934.

Minutes: Meeting minutes and other information may be obtained from the Staff Associate and MPSAC Designated Federal Officer at the above address or the Web site at http://www.nsf.gov/mps/advisory.jsp.

Purpose of Meeting: To study data, programs, policies, and other information pertinent to the National Science Foundation and to provide advice and recommendations concerning research in mathematics and physical sciences.

Agenda

State of the Directorate for Mathematical and Physical Sciences (MPS): FY15-FY16 Budgets

Report from the Committee of Visitors for the Division of Physics

Report from the Committee of Visitors for the Division of Astronomical Sciences

Dated: March 4, 2015.
Suzanne Plimpton,
Acting Committee Management Officer.

[FR Doc. 2015-05614 Filed 3-11-15; 8:45 am]

BILLING CODE 7555-01-P